DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before April 23, 2004.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-778195

Applicant: Helix Environmental Planning, Inc., La Mesa, California.

The permittee requests an amendment to take (harass by survey and monitor nests) the southwestern willow flycatcher (Empidonax traillii extimus) in conjunction with demographic studies throughout the range of the species in California for the purpose of enhancing its survival.

Permit No. TE-082916

Applicant: Kelly Garron, Fullerton, California.

The applicant requests a permit to take (harass by survey, capture, mark, release, and recapture) the Mohave tui chub (Gila bicolor mohavensis) in conjunction with population assessments in San Bernardino County, California, for the purpose of enhancing its survival.

Permit No. TE-016443

Applicant: Angeles National Forest, Arcadia, California.

The permittee requests an amendment to take (harass by survey) the mountain yellow-legged frog (Rana mucosa) in conjunction with demographic studies in Los Angeles, Ventura, and San Bernardino Counties, California, for the purpose of enhancing its survival.

Permit No. TE-815144

Applicant: Rosemary Thompson, Santa Barbara, California.

The permittee requests an amendment to take (harass by survey) the unarmored threespine stickleback (Gasterosteus aculeatus williamsoni) in conjunction with demographic studies in Santa Barbara County, California, for the purpose of enhancing its survival.

Permit No. TE-827493

Applicant: Brian Leatherman, Yorba Linda, California.

The permittee requests an amendment to take (monitor nests) the least Bell's vireo (Vireo pusillus bellii) in conjunction with demographic studies throughout the range of the species in California for the purpose of enhancing its survival.

Permit No. TE-082557

Applicant: Julie McGuigan, Los Osos, California.

The applicant requests a permit to take (harass by survey and capture) the Morro shoulderband snail (Helminthoglypta walkeriana) in conjunction with surveys in San Luis Obispo County, California, for the purpose of enhancing its survival.

Permit No. TE-083348

Applicant: San Bernardino County Department of Public Works, San Bernardino, California.

The applicant requests a permit to take (harass by survey) the southwestern willow flycatcher (Empidonax traillii extimus), take (monitor nests) the least Bell's vireo (Vireo pusillus bellii), and take (capture, handle, translocate, and release) the San Bernardino kangaroo rat (Dipodomys merriami parvus) in conjunction with demographic studies in San Bernardino County, California, for the purpose of enhancing their survival.

Permit No. TE-009015

Applicant: Jason Berkley, Diamond Bar, California.

The permittee requests an amendment to take (monitor nests) the least Bell's vireo (Vireo pusillus bellii) in conjunction with demographic studies throughout the range of the species in California for the purpose of enhancing its survival.

Permit No. TE-083783

Applicant: Debra Ayres, Davis, California.

The applicant requests a permit to remove/reduce to possession (collect plants and seeds) Cordylanthus palmatus (palmate-bracted bird's-beak) in conjunction with research in Yolo, Colusa, Alameda, Fresno, and Sacramento Counties, California, for the purpose of enhancing its survival.

Permit No. TE-082909

Applicant: Melanie S. Johnson, San Diego, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-083473

Applicant: California Army National Guard, Camp Roberts, California.

The applicant requests a permit to take (harass by survey and capture) the Morro shoulderband snail (Helminthoglypta walkeriana) in conjunction with surveys in San Luis Obispo County, California, for the purpose of enhancing its survival.

We solicit public review and comment on each of these recovery permit applications.

Dated: March 9, 2004.
D. Kenneth McDermond,
Acting Manager, California/Nevada Operations Office, Region 1, U.S. Fish and Wildlife Service.

[FR Doc. 04-6530 Filed 3-23-04; 8:45 am]

BILLING CODE 4310-55-P